DEPARTMENT OF HEALTH AND HUMAN SERVICES

Centers for Medicare & Medicaid Services

[CMS-2387-N]

RIN 0938-AR78

Medicaid Program; State Allotments for Payment of Medicare Part B Premiums for Qualifying Individuals (QIs): Federal Fiscal Years 2012 and 2013

AGENCY: Centers for Medicare & Medicaid Services (CMS), HHS.

ACTION: Notice.

SUMMARY: This notice sets forth the States' final allotments available to pay the Medicare Part B premiums for Qualifying Individuals (QIs) for the Federal fiscal year (FY) 2012 and the preliminary QI allotments for FY 2013. The amounts of these QI allotments were determined in accordance with the methodology set forth in regulations and reflect funding for the QI program made available under recent legislation.

DATES: The final QI allotments for payment of Medicare Part B premiums for FY 2012 are effective October 1, 2011. The preliminary QI allotments for FY 2013 are effective October 1, 2012.

FOR FURTHER INFORMATION CONTACT: Richard Strauss, (410) 786-2019.

SUPPLEMENTARY INFORMATION:

I. Background

A. QI Allotments for FY 2012

Section 110 of the Medicare and Medicaid Extenders Act of 2010 (Pub. L. 111-309, enacted on December 15, 2010) (MMEA) extended the authority and funding for the QI program for the first quarter of FY 2012 (that is, through December 31, 2011) by providing $280 million available for the first quarter of FY 2012. Section 310 of the Temporary Payroll Tax Cut Continuation Act of 2011 (Pub. L. 112-78, enacted on December 23, 2011) (TPTCA) provided temporary continued authority and an additional $150 million in funding for the QI program for the period January 1, 2012 through February 29, 2012. With the enactment of TPTCA, the QI program was authorized and funded at a total amount nationally of $430 million ($280 million plus $150 million) for FY 2012 through February 29, 2012. Section 3101 of the Middle Class Tax Relief and Job Creation Act of 2012 (Pub. L. 112-96, enacted on February 22, 2012) (MCTRJCA) extended the authority and funding for the QI program for FY 2012; in particular, authority for the QI program was extended for all of FY 2012 and funding for the program for the period January 1, 2012 through September 30, 2012 was increased to $450 million. Therefore, the total funding available for the QI program for FY 2012 is $730 million ($280 million plus $450 million).

B. QI Allotments for FY 2013 and Thereafter

Section 3101 of the MCTRJCA extended the authority and funding for the QI program by providing $280 million, available for the period October 1, 2012 through December 31, 2012, the first quarter of FY 2013. Most recently, section 621 of the American Taxpayer Relief Act of 2012 (Pub. L. 112-240, enacted on January 2, 2013) (ATRA), extended the authority for the QI program for all of FY 2013 and provided $485 million in additional funding for the program for the period January 1, 2013 through September 30, 2013. Therefore the total funding available for the QI program for FY 2013 is $765 million ($280 million plus $485 million).

Finally, section 621 of ATRA further extended the authority and funding for the QI program by providing $300 million, available for the period October 1, 2013 through December 31, 2013, the first quarter of FY 2014.

C. Methodology for Calculating the Fiscal Year QI Allotments.

The amounts of the states' final FY 2012 and preliminary FY 2013 QI allotments, contained in this notice, were determined in accordance with the methodology set forth in existing regulations at 42 CFR 433.10(c)(5) and reflect funding for the QI program made available under the legislation discussed above.

II. Charts

The final QI allotments for FY 2012 and the preliminary QI allotments for FY 2013 are shown by state in Chart 1 and Chart 2 below, respectively:

Chart 1—Final Qualifying Individuals Allotments for October 1, 2011 through September 30, 2012.

Chart 2—Preliminary Qualifying Individuals Allotments for October 1, 2012 through September 30, 2013.

Table 1—Final Qualifying Individuals Allotments for October 1, 2011 Through September 30, 2012
State | Initial QI allotments for FY 2012: Number of individuals/3 (000s) | Initial QI allotments for FY 2012: Percentage of total Col B/Tot. Col B | Initial QI allotments for FY 2012: Initial QI allotment Col C x: $730,000,000 | FY 2012 estimated QI expenditures/1 | Need (difference) If E>D, E-D | Pct of Tot. need states F/(Tot. of F) | Reduction pool for non-need states If D >= E, D-E | Pct of Tot. non-need states H/(Tot. of H) | Reduction adj. for non-need states Col. I x $82,487,822 | Increase adj. for need states Col. G x $82,487,822 | Final FY 2012 QI allotment/2
A | B | C | D | E | F | G | H | I | J | K | L
Alabama | 43 | 3.22 | $23,513,109 | $21,324,574 | NA | NA | $2,188,535 | 1.2003 | $990,139 | NA | $22,522,970
Alaska | 2 | 0.15 | 1,093,633 | 283,429 | NA | NA | 810,204 | 0.4444 | 366,553 | NA | 727,080
Arizona | 14 | 1.05 | 7,655,431 | 16,592,682 | 8,937,252 | 10.8346 | Need | Need | Need | 8,937,252 | 16,592,682
Arkansas | 21 | 1.57 | 11,483,146 | 12,996,962 | 1,513,816 | 1.8352 | Need | Need | Need | 1,513,816 | 12,996,962
California | 89 | 6.67 | 48,666,667 | 27,247,615 | NA | NA | 21,419,052 | 11.7477 | 9,690,422 | NA | 38,976,244
Colorado | 16 | 1.20 | 8,749,064 | 5,418,415 | NA | NA | 3,330,649 | 1.8268 | 1,506,854 | NA | 7,242,209
Connecticut | 15 | 1.12 | 8,202,247 | 2,292,128 | NA | NA | 5,910,119 | 3.2415 | 2,673,860 | NA | 5,528,387
Delaware | 4 | 0.30 | 2,187,266 | 3,030,541 | 843,275 | 1.0223 | Need | Need | Need | 843,275 | 3,030,541
District of Columbia | 2 | 0.15 | 1,093,633 | 0 | NA | NA | 1,093,633 | 0.5998 | 494,782 | NA | 598,851
Florida | 83 | 6.22 | 45,385,768 | 66,783,222 | 21,397,454 | 25.9401 | Need | Need | Need | 21,397,454 | 66,783,222
Georgia | 35 | 2.62 | 19,138,577 | 35,076,093 | 15,937,516 | 19.3211 | Need | Need | Need | 15,937,516 | 35,076,093
Hawaii | 5 | 0.37 | 2,734,082 | 1,308,325 | NA | NA | 1,425,758 | 0.7820 | 645,042 | NA | 2,089,040
Idaho | 6 | 0.45 | 3,280,899 | 2,501,976 | NA | NA | 778,923 | 0.4272 | 352,401 | NA | $2,928,498
Illinois | 64 | 4.79 | 34,996,255 | 23,748,898 | NA | NA | 11,247,356 | 6.1688 | 5,088,537 | NA | 29,907,718
Indiana | 39 | 2.92 | 21,325,843 | 6,522,130 | NA | NA | 14,803,712 | 8.1194 | 6,697,506 | NA | 14,628,336
Iowa | 16 | 1.20 | 8,749,064 | 4,338,994 | NA | NA | 4,410,070 | 2.4188 | 1,995,207 | NA | 6,753,857
Kansas | 19 | 1.42 | 10,389,513 | 4,613,481 | NA | NA | 5,776,032 | 3.1680 | 2,613,196 | NA | 7,776,317
Kentucky | 32 | 2.40 | 17,498,127 | 15,249,091 | NA | NA | 2,249,037 | 1.2335 | 1,017,511 | NA | 16,480,617
Louisiana | 28 | 2.10% | 15,310,861 | 19,883,851 | 4,572,989 | 5.5438 | Need | Need | Need | 4,572,989 | 19,883,851
Maine | 6 | 0.45 | 3,280,899 | 5,308,878 | 2,027,979 | 2.4585 | Need | Need | Need | 2,027,979 | 5,308,878
Maryland | 19 | 1.42 | 10,389,513 | 7,562,402 | NA | NA | 2,827,111 | 1.5506 | 1,279,044 | NA | 9,110,470
Massachusetts | 34 | 2.55 | 18,591,760 | 10,276,939 | NA | NA | 8,314,821 | 4.5604% | 3,761,797 | NA | 14,829,963
Michigan | 39 | 2.92 | 21,325,843 | 16,321,547 | NA | NA | 5,004,296 | 2.7447 | 2,264,047 | NA | 19,061,796
Minnesota | 21 | 1.57 | 11,483,146 | 5,943,209 | NA | NA | 5,539,937 | 3.0385 | 2,506,382 | NA | 8,976,764
Mississippi | 19 | 1.42 | 10,389,513 | 14,400,900 | 4,011,386 | 4.8630 | Need | Need | Need | 4,011,386 | 14,400,900
Missouri | 35 | 2.62 | 19,138,577 | 4,570,341 | NA | NA | 14,568,235 | 7.9902 | 6,590,971 | NA | 12,547,606
Montana | 7 | 0.52 | 3,827,715 | 1,425,081 | NA | NA | 2,402,634 | 1.3178 | 1,087,001 | NA | 2,740,714
Nebraska | 7 | 0.52 | 3,827,715 | 2,313,332 | NA | NA | 1,514,383 | 0.8306 | 685,138 | NA | 3,142,577
Nevada | 9 | 0.67 | 4,921,348 | 4,662,209 | NA | NA | 259,140 | 0.1421 | 117,240 | NA | 4,804,108
New Hampshire | 5 | 0.37 | 2,734,082 | 2,212,296 | NA | NA | 521,787 | 0.2862 | 236,067 | NA | 2,498,015
New Jersey | 29 | 2.17 | 15,857,678 | 9,166,126 | NA | NA | 6,691,552 | 3.6701 | 3,027,397 | NA | 12,830,281
New Mexico | 10 | 0.75 | 5,468,165 | 4,058,656 | NA | NA | 1,409,509 | 0.7731 | 637,691 | NA | 4,830,474
New York | 78 | 5.84 | 42,651,685 | 44,692,419 | 2,040,734 | 2.4740 | Need | Need | Need | 2,040,734 | 44,692,419
North Carolina | 47 | 3.52 | 25,700,375 | 28,365,556 | 2,665,181 | 3.2310 | Need | Need | Need | 2,665,181 | 28,365,556
North Dakota | 3 | 0.22 | 1,640,449 | 629,590 | NA | NA | 1,010,859 | 0.5544 | 457,334 | NA | 1,183,116
Ohio | 58 | 4.34 | 31,715,356 | 24,831,767 | NA | NA | 6,883,589 | 3.7754 | 3,114,278 | NA | 28,601,078
Oklahoma | 17 | 1.27 | 9,295,880 | 10,241,906 | 946,026 | 1.1469 | Need | Need | Need | 946,026 | 10,241,906
Oregon | 17 | 1.27 | 9,295,880 | 13,072,852 | 3,776,972 | 4.5788 | Need | Need | Need | 3,776,972 | 13,072,852
Pennsylvania | 66 | 4.94 | 36,089,888 | 32,079,327 | NA | NA | 4,010,560 | 2.1997 | 1,814,460 | NA | 34,275,427
Rhode Island | 5 | 0.37 | 2,734,082 | 2,388,025 | NA | NA | 346,058 | 0.1898 | 156,564 | NA | 2,577,519
South Carolina | 26 | 1.95 | 14,217,228 | 13,359,233 | NA | NA | 857,995 | 0.4706 | 388,175 | NA | 13,829,054
South Dakota | 4 | 0.30 | 2,187,266 | 1,915,993 | NA | NA | 271,273 | 0.1488 | 122,729 | NA | 2,064,536
Tennessee | 32 | 2.40 | 17,498,127 | 29,077,199 | 11,579,072 | 14.0373 | Need | Need | Need | 11,579,072 | 29,077,199
Texas | 105 | 7.87 | 57,415,730 | 34,868,400 | NA | NA | 22,547,330 | 12.3665 | 10,200,879 | NA | 47,214,851
Utah | 5 | 0.37 | 2,734,082 | 2,429,445 | NA | NA | 304,638 | 0.1671 | 137,824 | NA | 2,596,258
Vermont | 2 | 0.15 | 1,093,633 | 3,331,803 | 2,238,170 | 2.7133 | Need | Need | Need | 2,238,170 | 3,331,803
Virginia | 25 | 1.87 | 13,670,412 | 13,050,355 | NA | NA | 620,057 | 0.3401 | 280,526 | NA | 13,389,886
Washington | 26 | 1.95 | 14,217,228 | 6,502,266 | NA | NA | 7,714,963 | 4.2314 | 3,490,409 | NA | 10,726,820
West Virginia | 16 | 1.20 | 8,749,064 | 6,165,223 | NA | NA | 2,583,841 | 1.4172 | 1,168,983 | NA | 7,580,080
Wisconsin | 27 | 2.02 | 14,764,045 | 4,954,841 | NA | NA | 9,809,204 | 5.3801 | 4,437,887 | NA | 10,326,158
Wyoming | 3 | 0.22 | 1,640,449 | 771,814 | NA | NA | 868,636 | 0.4764 | 392,989 | NA | 1,247,461
Total | 1,335 | 100.00 | 730,000,000 | 630,162,333 | 82,487,822 | 100.0000 | 182,325,489 | 100.0000 | 82,487,822 | 82,487,822 | 730,000,000
Footnotes:
/1 FY 2012 Estimates from July 2012 CMS Survey of States; Estimates Are For Months October 2011 Through September 2012.
/2 For Need States, Final FY 2012 QI Allotment is equal to Initial QI Allotment in Column D increased by amount in Column K.
For Non-Need States, Final FY 2012 QI Allotment is equal to Initial QI Allotment in Column D reduced by amount in Column J.
/3 Three-year average (2008-2010) of number (000) of Medicare beneficiaries in State who are not enrolled in Medicaid but whose incomes are at least 120% but less than 135% of federal poverty level.
Source: Census Bureau Annual Social and Economic Supplement (ASEC) to the 2011 Current Population Survey (CPS).

Table 2—Preliminary Qualifying Individuals Allotments for October 1, 2012 Through September 30, 2013
State | Initial QI allotments for FY 2013: Number of individuals/3 (000s) | Initial QI allotments for FY 2013: Percentage of total Col B/Tot. Col B | Initial QI allotments for FY 2013: Initial QI allotment Col C x: $765,000,000 | FY 2013 estimated QI expenditures/1 | Need (difference) If E>D, E-D | Pct of Tot. need states F/(Tot. of F) | Reduction pool for non-need states If D > = E, D-E | Pct of Tot. non-need states H/(Tot. of H) | Reduction adj. for non-need states Col. I x $103,554,487 | Increase adj. for need states Col. G x $103,554,487 | Preliminary FY 2013 QI allotment/2
A | B | C | D | E | F | G | H | I | J | K | L
Alabama | 38 | 2.64 | $20,159,501 | $24,188,697 | $4,029,197 | 3.8909 | Need | Need | Need | $4,029,197 | $24,188,697
Alaska | 2 | 0.14 | 1,061,026 | 378,052 | NA | NA | 682,974 | 0.4239 | 438,933 | NA | 622,093
Arizona | 21 | 1.46 | 11,140,777 | 20,302,279 | 9,161,503 | 8.8470 | Need | Need | Need | 9,161,503 | 20,302,279
Arkansas | 27 | 1.87 | 14,323,856 | 14,968,578 | 644,722 | 0.6226 | Need | Need | Need | 644,722 | 14,968,578
California | 107 | 7.42 | 56,764,910 | 30,667,238 | NA | NA | 26,097,672 | 16.1967 | 16,772,428 | NA | 39,992,482
Colorado | 16 | 1.11 | 8,488,211 | 6,261,250 | NA | NA | 2,226,960 | 1.3821 | 1,431,221 | NA | 7,056,990
Connecticut | 15 | 1.04 | 7,957,698 | 4,295,522 | NA | NA | 3,662,176 | 2.2728 | 2,353,604 | NA | 5,604,094
Delaware | 4 | 0.28 | 2,122,053 | 3,516,899 | 1,394,847 | 1.3470 | Need | Need | Need | 1,394,847 | 3,516,899
District of Columbia | 2 | 0.14 | 1,061,026 | 0 | NA | NA | 1,061,026 | 0.6585 | 681,899 | NA | 379,127
Florida | 96 | 6.66 | 50,929,265 | 75,922,288 | 24,993,023 | 24.1351 | Need | Need | Need | 24,993,023 | 75,922,288
Georgia | 45 | 3.12 | 23,873,093 | 37,187,452 | 13,314,359 | 12.8573 | Need | Need | Need | 13,314,359 | 37,187,452
Hawaii | 6 | 0.42 | 3,183,079 | 1,502,678 | NA | NA | 1,680,401 | 1.0429 | 1,079,959 | NA | 2,103,120
Idaho | 7 | 0.49 | 3,713,592 | 2,746,709 | NA | NA | 966,883 | 0.6001 | 621,396 | NA | 3,092,197
Illinois | 68 | 4.72 | 36,074,896 | 28,872,870 | NA | NA | 7,202,026 | 4.4697 | 4,628,592 | NA | 31,446,304
Indiana | 43 | 2.98 | 22,812,067 | 6,951,308 | NA | NA | 15,860,759 | 9.8435 | 10,193,378 | NA | 12,618,688
Iowa | 16 | 1.11 | 8,488,211 | 4,940,141 | NA | NA | 3,548,070 | 2.2020 | 2,280,271 | NA | 6,207,940
Kansas | 18 | 1.25 | 9,549,237 | 5,443,274 | NA | NA | 4,105,963 | 2.5482 | 2,638,817 | NA | 6,910,420
Kentucky | 34 | 2.36 | 18,037,448 | 18,127,195 | 89,747 | 0.0867 | Need | Need | Need | 89,747 | 18,127,195
Louisiana | 29 | 2.01 | 15,384,882 | 22,144,578 | 6,759,696 | 6.5277 | Need | Need | Need | 6,759,696 | 22,144,578
Maine | 7 | 0.49 | 3,713,592 | 7,045,460 | 3,331,867 | 3.2175 | Need | Need | Need | 3,331,867 | 7,045,460
Maryland | 24 | 1.66 | 12,732,316 | 8,602,875 | NA | NA | 4,129,441 | 2.5628 | 2,653,906 | NA | 10,078,411
Massachusetts | 28 | 1.94 | 14,854,369 | 10,893,600 | NA | NA | 3,960,769 | 2.4581 | 2,545,503 | NA | 12,308,866
Michigan | 38 | 2.64 | 20,159,501 | 20,967,835 | 808,334 | 0.7806 | Need | Need | Need | 808,334 | 20,967,835
Minnesota | 22 | 1.53 | 11,671,290 | 6,559,682 | NA | NA | 5,111,608 | 3.1724 | 3,285,124 | NA | 8,386,166
Mississippi | 18 | 1.25 | 9,549,237 | 16,529,838 | 6,980,601 | 6.7410 | Need | Need | Need | 6,980,601 | 16,529,838
Missouri | 39 | 2.70 | 20,690,014 | 4,700,909 | NA | NA | 15,989,105 | 9.9231 | 10,275,864 | NA | 10,414,150
Montana | 6 | 0.42 | 3,183,079 | 1,512,121 | NA | NA | 1,670,958 | 1.0370 | 1,073,890 | NA | 2,109,189
Nebraska | 6 | 0.42 | 3,183,079 | 2,506,770 | NA | NA | 676,309 | 0.4197 | 434,650 | NA | 2,748,429
Nevada | 10 | 0.69 | 5,305,132 | 5,177,080 | NA | NA | 128,052 | 0.0795 | 82,296 | NA | 5,222,836
New Hampshire | 6 | 0.42 | 3,183,079 | 2,861,766 | NA | NA | 321,313 | 0.1994 | 206,501 | NA | 2,976,578
New Jersey | 40 | 2.77 | 21,220,527 | 9,901,642 | NA | NA | 11,318,885 | 7.0247 | 7,274,411 | NA | 13,946,116
New Mexico | 9 | 0.62 | 4,774,619 | 4,787,611 | 12,993 | 0.0125 | Need | Need | Need | 12,993 | 4,787,611
New York | 85 | 5.89 | 45,093,620 | 50,481,630 | 5,388,010 | 5.2031 | Need | Need | Need | 5,388,010 | 50,481,630
North Carolina | 38 | 2.64 | 20,159,501 | 28,897,791 | 8,738,290 | 8.4383 | Need | Need | Need | 8,738,290 | 28,897,791
North Dakota | 3 | 0.21 | 1,591,540 | 692,912 | NA | NA | 898,628 | 0.5577 | 577,529 | NA | 1,014,010
Ohio | 54 | 3.74 | 28,647,712 | 28,435,844 | NA | NA | 211,867 | 0.1315 | 136,163 | NA | 28,511,549
Oklahoma | 27 | 1.87 | 14,323,856 | 11,348,409 | NA | NA | 2,975,446 | 1.8466% | 1,912,257 | NA | 12,411,598
Oregon | 17 | 1.18 | 9,018,724 | 16,832,070 | 7,813,346 | 7.5452 | Need | Need | Need | 7,813,346 | 16,832,070
Pennsylvania | 78 | 5.41 | 41,380,028 | 34,628,979 | NA | NA | 6,751,049 | 4.1898 | 4,338,758 | NA | 37,041,270
Rhode Island | 6 | 0.42 | 3,183,079 | 2,625,070 | NA | NA | 558,009 | 0.3463 | 358,621 | NA | 2,824,458
South Carolina | 33 | 2.29 | 17,506,935 | 13,456,800 | NA | NA | 4,050,135 | 2.5136 | 2,602,937 | NA | 14,903,998
South Dakota | 4 | 0.28 | 2,122,053 | 2,344,945 | 222,892 | 0.2152 | Need | Need | Need | 222,892 | 2,344,945
Tennessee | 48 | 3.33 | 25,464,632 | 30,163,578 | 4,698,945 | 4.5377 | Need | Need | Need | 4,698,945 | 30,163,578
Texas | 106 | 7.35 | 56,234,397 | 35,884,800 | NA | NA | 20,349,597 | 12.6294 | 13,078,261 | NA | 43,156,136
Utah | 6 | 0.42 | 3,183,079 | 2,680,802 | NA | NA | 502,277 | 0.3117 | 322,803 | NA | 2,860,276
Vermont | 2 | 0.14 | 1,061,026 | 4,047,877 | 2,986,851 | 2.8843 | Need | Need | Need | 2,986,851 | 4,047,877
Virginia | 23 | 1.60 | 12,201,803 | 14,387,068 | 2,185,265 | 2.1103 | Need | Need | Need | 2,185,265 | 14,387,068
Washington | 23 | 1.60 | 12,201,803 | 7,274,362 | NA | NA | 4,927,441 | 3.0581 | 3,166,764 | NA | 9,035,039
West Virginia | 17 | 1.18 | 9,018,724 | 6,550,585 | NA | NA | 2,468,139 | 1.5318 | 1,586,221 | NA | 7,432,503
Wisconsin | 22 | 1.53 | 11,671,290 | 5,416,651 | NA | NA | 6,254,639 | 3.8817 | 4,019,726 | NA | 7,651,564
Wyoming | 3 | 0.21 | 1,591,540 | 810,736 | NA | NA | 780,803 | 0.4846 | 501,806 | NA | 1,089,734
Total | 1,442 | 100.00 | 765,000,000 | 707,425,105 | 103,554,487 | 100.0000 | 161,129,382 | 100.0000 | 103,554,487 | 103,554,487 | 765,000,000
Footnotes:
/1 FY 2013 Estimates from July 2012 CMS Survey of States; Estimates Are For Months October 2012 Through September 2013.
/2 For Need States, Preliminary FY 2013 QI Allotment is equal to Initial QI Allotment in Column D increased by amount in Column K.
For Non-Need States, Preliminary FY 2013 QI Allotment is equal to Initial QI Allotment in Column D reduced by amount in Column J.
/3 Three-year average (2009-2011) of number (000) of Medicare beneficiaries in State who are not enrolled in Medicaid but whose incomes are at least 120% but less than 135% of federal poverty level.
Source: Census Bureau Annual Social and Economic Supplement (ASEC) to the 2012 Current Population Survey (CPS).

The following describes the information contained in the columns of Chart 1 and Chart 2:

Column A—State. Column A shows the name of each state. Columns B through D show the determination of an Initial QI Allotment for FY 2012 (Chart 1) or FY 2013 (Chart 2) for each state, based only on the indicated Census Bureau data.

Column B—Number of Individuals. Column B contains the estimated average number of Medicare beneficiaries for each state that are not covered by Medicaid whose family income is at least 120 but less than 135 percent of the federal poverty level. With respect to the final FY 2012 QI allotment (Chart 1), Column B contains the number of such individuals for the years 2008 through 2010, as obtained from the Census Bureau's Annual Social and Economic Supplement to the 2011 Current Population Survey. With respect to the preliminary FY 2013 QI allotment (Chart 2), Column B contains the number of such individuals for the years 2009 through 2012, as obtained from the Census Bureau's Annual Social and Economic Supplement to the Current Population Survey.

Column C—Percentage of Total. Column C provides the percentage of the total number of individuals for each state, that is, the Number of Individuals for the state in Column B divided by the sum total of the Number of Individuals for all States in Column B.

Column D—Initial QI Allotment. Column D contains each state's Initial QI Allotment for FY 2012 (Chart 1) or FY 2013 (Chart 2), calculated as the state's Percentage of Total in Column C multiplied by the total amount available nationally for QI allotments for the fiscal year. The total amount available nationally for QI allotments each fiscal year is $730,000,000 for FY 2012 (Chart 1) and $765,000,000 for FY 2013 (Chart 2).

Columns E through L show the determination of the States' Final QI Allotments for FY 2012 (Chart 1) or Preliminary QI Allotments for FY 2013 (Chart 2).

Column E —FY 2012 or FY 2013 Estimated QI Expenditures. Column E contains the states' estimates of their total QI expenditures for FY 2012 (Chart 1) or FY 2013 (Chart 2) based on information obtained from states in the summer of 2012 and as updated.

Column F—Need (Difference). Column F contains the additional amount of QI allotment needed for those states whose estimated expenditures in Column E exceeded their Initial QI allotments in Column D for FY 2012 (Chart 1) or for FY 2013 (Chart 2) for such states, Column F shows the amount in Column E minus the amount in Column D. For other “Non-Need” States, Column F shows “NA”.

Column G—Percent of Total Need States. For states whose projected QI expenditures in Column E are greater than their initial QI allotment in Column D for FY 2012 (Chart 1) or FY 2013 (Chart 2), respectively, Column G shows the percentage of total need, determined as the amount for each Need State in Column F divided by the sum of the amounts for all states in Column F. For Non-Need States, the entry in Column G is “NA”.

Column H —Reduction Pool for Non-Need States. Column H shows the amount of the pool of surplus QI allotments for FY 2012 (Chart 1) or FY 2013 (Chart 2), respectively, for those states that project QI expenditures for the fiscal year that are less than the Initial QI allotment for the fiscal year (referred to as non-need States). For states for which the estimates in Column E of QI expenditures for FY 2012 or FY 2013, respectively, are equal to or less than their Initial QI allotments in Column D for FY 2012 or FY 2013, respectively, Column H shows the amount in Column D minus the amount in Column E. For the states with a need, Column H shows “Need”. The reduction pool of excess QI allotments is equal to the sum of the amounts in Column H.

Column I—Percent of Total Non-Need States. For states whose projected QI expenditures in Column E are less than their Initial QI allotment in Column D for FY 2012 (Chart 1) or FY 2013 (Chart 2), Column I shows the percentage of the total reduction pool in Column H, determined as the amount for each Non-Need State in Column H divided by the sum of the amounts for all States in Column H. For Need States, the entry in Column I is “Need”.

Column J—Reduction Adjustment for Non-Need States. Column J shows the amount of adjustment needed to reduce the Initial QI allotments in Column D for FY 2012 (Chart 1) or FY 2013 (Chart 2) for Non-Need States in order to address the total need shown in Column F. The amount in Column J is determined as the percentage in column I for Non-Need States multiplied by the lesser of the total need in Column F (equal to the sum of Needs in Column F) or the total Reduction Pool in Column H (equal to the sum of the Non-Need amounts in Column H). For Need States, the entry in Column J is “Need”.

Column K—Increase Adjustment for Need States. Column K shows the amount of adjustment to increase the Initial QI Allotment in Column D for FY 2012 (Chart 1) or FY 2013 (Chart 2) for Need States in order to address the total need shown for the fiscal year in Column F. The amount in Column K is determined as the percentage in Column G for Need States multiplied by the lesser of the total need in Column F (equal to the sum of Needs in Column F) or the total Reduction Pool in Column H (equal to the sum of the Non-Need amounts in Column H). For Non-Need States, the entry in Column K is “NA”.

Column L—Final FY 2012 QI Allotment (Chart 1) or Preliminary FY 2013 QI Allotment (Chart 2). Column L contains the Final QI Allotment for each state for FY 2012 (Chart 1) or the Preliminary QI Allotment for FY 2013 (Chart 2). For states that need additional QI allotment amounts for the fiscal year based on Estimated QI Expenditures in Column E as compared to their Initial QI allotments in Column D for the fiscal year (states with a projected need amount are shown in Column F), Column L is equal to the Initial QI allotment in Column D for FY 2012 (Chart 1) or FY 2013 (Chart 2) plus the amount determined in Column K for Need States. For Non-Need States (states with a projected surplus in Column H), Column L is equal to the QI Allotment in Column D reduced by the Reduction Adjustment amount in Column J.

III. Collection of Information Requirements

This notice does not impose any information collection or recordkeeping requirements. Consequently, it does not need Office of Management and Budget review under the authority of the Paperwork Reduction Act of 1995 (44 U.S.C. 3501 et seq.).

Authority: (Section 1102 of the Social Security Act (42 U.S.C. 1302))

(Catalog of Federal Domestic Assistance Program No. 93.778, Medical Assistance Program)

Dated: May 15, 2013.
Marilyn Tavenner,
Administrator, Centers for Medicare & Medicaid Services.
Dated: June 28, 2013.
Kathleen Sebelius,
Secretary, Department of Health and Human Services.

[FR Doc. 2013-17962 Filed 7-25-13; 8:45 am]

BILLING CODE 4120-01-P